DEPARTMENT OF TRANSPORTATION

Federal Aviation Administration

Notice of Intent To Not Re-Evaluate Aircraft Kits Previously Determined To Be Eligible for Certification as Amateur-Built Aircraft

AGENCY: Federal Aviation Administration (FAA), DOT.

SUMMARY: This notice announces the FAA's intent to not re-evaluate aircraft kits previously determined to be eligible for certification as amateur-built aircraft. Although the FAA recently announced its intent to temporarily suspend amateur-built aircraft kit evaluations, this notice announces our intent to not re-evaluate or remove any kits from the agency's current eligibility list as a result of developing new evaluation procedures. Those evaluations were conducted to determine if a prefabricated amateur-built aircraft kit is eligible for certification as an amateur-built aircraft and will continue to remain valid.

FOR FURTHER INFORMATION CONTACT: Frank P. Paskiewicz, Manager, Production and Airworthiness Division, Aircraft Certification Service, AIR-200, Federal Aviation Administration, 800 Independence Ave., SW., Washington, DC 20591; telephone number: (202) 267-8361.

SUPPLEMENTARY INFORMATION:

Background

On February 15, 2008, the FAA published a notice in the Federal Register (73 FR 8926) which temporarily suspended amateur-built aircraft kit evaluations. The FAA has performed these evaluations as a courtesy to assist manufacturers in determining whether their prefabricated aircraft kits can meet the regulatory requirements for certification as an amateur-built aircraft under the provisions of Title 14, Code of Federal Regulations (14 CFR) 21.191(g). That section defines an amateur-built aircraft as, “an aircraft the major portion of which has been fabricated and assembled by persons who undertook the construction project solely for their own education or recreation.” Upon determination that the percentage of a kit presented for evaluation by a manufacturer permits the major portion (51%) of the aircraft's fabrication and assembly to be completed by an amateur builder, the aircraft kit is added to a list of eligible kits maintained by the FAA.

Kit evaluations have been a courtesy that the FAA has provided for the convenience of kit manufacturers, their customers, and FAA inspectors. Successful evaluations assure manufacturers that their kits can be marketed as being eligible for certification as an amateur-built aircraft. They also assist inspectors by providing a baseline from which an inspector can begin an assessment of a completed aircraft kit once it has been presented for certification under § 21.191(g). Additionally, the evaluations inform prospective applicants that an aircraft is eligible for certification as an amateur-built aircraft, when completed in accordance with FAA-evaluated assembly and instruction manuals. Completion of a kit evaluation, however, is not, nor ever has been, a regulatory requirement.

The FAA recently concluded that a temporary suspension of kit evaluations is necessary because existing policy and guidance used to evaluate these kits has resulted in inconsistent determinations regarding regulatory compliance. This decision also reflects the conclusions of the Amateur-Built Aviation Rulemaking Committee (ARC). That committee was established on July 26, 2006, to make recommendations regarding the use of builder or commercial assistance when fabricating and assembling amateur-built aircraft intended for certification under § 21.191(g). The committee concluded that the process used for the evaluation of aircraft kits is not standardized. The FAA believes a temporary suspension of kit evaluations is therefore needed to update the policy and guidance material used to conduct these evaluations. The agency is currently evaluating proposed changes to the policy and guidance used to evaluate amateur-built aircraft kits.

Since publication of the notice of the agency's temporary suspension of kit evaluations in the Federal Register, amateur-built aircraft kit manufacturers have expressed concerns that the FAA would re-evaluate or remove kits on the current eligibility list as a result of re-evaluating previously evaluated kits using the new evaluation procedures. The FAA does not intend to re-evaluate or remove any of the kits from the current eligibility list as a result of developing new evaluation procedures. As is current practice, a re-evaluation of any kit on the current eligibility list would only occur if a potentially unsafe condition is identified. The temporary suspension of kit evaluations does not affect the status of kits previously determined to be eligible for certification as an amateur-built aircraft. Previous FAA-conducted amateur-built aircraft kit evaluations remain valid.

The FAA has also received inquiries concerning whether amateur-built kit manufacturers may continue to develop, manufacture, market, and sell their previously evaluated aircraft kits during the temporary suspension. The FAA does not certify aircraft kits or approve kit manufacturers. Kit evaluations are not required by the regulations and do not prevent a manufacturer from introducing a new kit for the amateur-built marketplace. Companies may continue to design, develop, manufacture, market, and sell aircraft kits. The temporary suspension in no way prevents these actions.

Several amateur aircraft builders were also concerned that aircraft currently being built from kits which were on the eligibility list at their time of purchase would be reevaluated in accordance with new procedures when the aircraft are presented for airworthiness certification: The FAA will not re-evaluate these kit aircraft to the new criteria when they are inspected for airworthiness certification provided the kit from which they have been built remains on the current list. The airworthiness certification process for these aircraft remains unchanged. The determination that an applicant has fabricated and assembled the major portion of an aircraft in accordance with § 21.191(g), will continue to be accomplished when the aircraft is inspected for airworthiness certification. This procedure is consistent with longstanding practices in place prior to the temporary suspension of kit evaluations.

The FAA will resume amateur-built kit evaluations after issuing the final policy changes. Prior to publishing the final policy, FAA will solicit comments on draft procedures (FAA Orders and Advisory Circulars) through a notice in the Federal Register.

Issued in Washington, DC on April 8, 2008.
Frank Paskiewicz,
Manager, Production and Airworthiness Division.

[FR Doc. E8-8217 Filed 4-17-08; 8:45 am]

BILLING CODE 4910-13-M